FEDERAL COMMUNICATIONS COMMISSION

[MB Docket 07-269; FCC 09-10]

Annual Assessment of the Status of Competition in the Market for the Delivery of Video Programming

AGENCY: Federal Communications Commission.

ACTION: Notice.

SUMMARY: The Commission is required to report annually to Congress on the status of competition in markets for the delivery of video programming. This document extends the deadlines for filing comments and reply comments in response to the notice of inquiry for the 14th Annual Report to Congress, which requested data as of June 2007. The Commission needs to bring its reporting up to date and plans to issue a single report for 2007, 2008, and 2009. The Commission will issue a supplemental notice of inquiry to request information for 2008 and 2009. The supplemental notice will establish a single deadline for the filing of information for 2007 and 2008, consistent with this extension of time, and a slightly later deadline for the filing of 2009 information. A single set of deadlines for 2007 and 2008 will avoid duplication of effort by commenters and streamline Commission review of the submitted information.

DATES: Interested parties may file comments on or before April 28, 2009, and reply comments on or before May 28, 2009.

ADDRESSES: You may submit comments, identified by MB 07-269, by any of the following methods:

• Federal eRulemaking Portal: http://www.regulations.gov. Follow the instructions for submitting comments.

• Federal Communications Commission's Web site: http://www.fcc.gov/cgb/efcs/. Follow the instructions for submitting comments.

• People with Disabilities: Contact the FCC to request reasonable accommodations (accessible format documents, sign language interpreters, CART, etc.) by e-mail: FCC504@fcc.gov or phone: (202) 418-0530 or TTY: (202) 418-0432.

For detailed instructions for submitting comments and additional information on the rulemaking process, see the SUPPLEMENTARY INFORMATION section of this document.

FOR FURTHER INFORMATION CONTACT: Dana Scherer, Media Bureau at (202) 418-2330.

SUPPLEMENTARY INFORMATION: This is a synopsis of the Commission's Order in MB Docket No. 07-269, FCC 09-10, adopted February 20, 2009, and released February 23, 2009. The complete text of the Order is available for inspection and copying during regular business hours in the FCC's Reference Information Center, Room CY-A257, Portals II, 445 Twelfth Street, SW., Washington, DC 20554. The complete text is also available on the Commission's Internet Site at http://www.fcc.gov. Alternative formats are available to persons with disabilities by contacting the Consumer & Governmental Affairs Bureau at (202) 418-0530 (voice), (202) 418-0432 (TTY). The complete text of the Order may also be purchased from the Commission's duplicating contractor, Best Company and Printing, Inc., Portals II, 445 12th Street, SW., Room CY-B402, Washington, DC 20554, telephone (202) 863-2893, facsimile (202) 863-2898, or by e-mail fcc@bcpiweb.com, or via its Web site http://www.bcpiweb.com.

Synopsis of Order

1. On January 16, 2009, the Commission released its 13th Annual Report to Congress on the status of competition in the market for the delivery of video programming. See Annual Assessment of the Status of Competition in the Market for the Delivery of Video Programming, 13th Annual Report, MB Docket No. 06-189, FCC 07-206. The Report provided information as of 2006. On the same date, the Commission released a Notice of Inquiry (“NOI”) soliciting 2007 data for the 14th Annual Report. See Annual Assessment of the Status of Competition in the Market for the Delivery of Video Programming, Notice of Inquiry, MB Docket No. 07-269, FCC 07-207. See also 74 FR 6875, Feb. 11, 2009. To fulfill its obligation to report annually on the state of competition in the video marketplace, pursuant to 47 U.S.C. 548(g), the Commission needs to bring its reporting up to date. Accordingly, the Commission will issue a single report covering 2007, 2008, and 2009. To provide a record for the development of this combined report, the Commission will issue a supplemental notice of inquiry in this proceeding, as soon as possible, to request information for 2008 and 2009. The supplemental notice will establish a single deadline for the filing of information for 2007 and 2008 and a slightly later deadline for the filing of information for 2009. The establishment of a single set of filing deadlines for 2007 and 2008 will avoid duplication of effort by commenters and will streamline Commission review of the submitted information, thereby conserving commenters' and Commission resources.

2. Comments in response to the pending NOI seeking information as of June 30, 2007, are due on February 27, 2009, and reply comments are due on March 27, 2009. To provide time for the Commission to solicit additional data and comment pertaining to 2008 and 2009, and to afford commenters the opportunity to file their 2007 and 2008 information concurrently, we are hereby extending the comment periods announced in the NOI to coincide with the filing deadlines we expect to establish for the additional information for 2008. Accordingly, the deadlines for responding to the NOI are extended, sua sponte until April 28, 2009, for initial comments and until May 28, 2009, for reply comments. Comment deadlines for 2009 will be announced when the Commission issues its Supplemental NOI.

Procedural Matters

3. Authority. This Order is issued pursuant to Sections 4(i), 4(j), 403 and 628(g) of the Communications Act of 1934, as amended, 47 U.S.C. 154(i), 154(j), 403, and 548(g), and Sections 0.061, 0.204, 0.283, and 1.46 of the rules, 47 CFR 0.061, 0.204, 0.283, and 1.46.

Federal Communications Commission.
Marlene H. Dortch,
Secretary.

[FR Doc. E9-5634 Filed 3-13-09; 8:45 am]

BILLING CODE 6712-01-P